COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

DATES: Comments Must Be Received On Or Before: 7/20/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s)

6530-00-NIB-0209—Hot Pack, Instant, Disposable, 6″ x 8″, 24/BX

6530-00-NIB-0222—Hot Pack, Instant, Disposable, 5″ x 6″, 80/BX

6530-00-NIB-0223—Hot Pack, Instant, Disposable, 5″ x 7″, 48/BX

6530-00-NIB-0210—Cold Pack, Instant, Long-Lasting, Disposable, 5″ x 6″, 24/BX

6530-00-NIB-0211—Cold Pack, Instant, Long-Lasting, Disposable, 5″ x 6″, 80/BX

6530-00-NIB-0212—Cold Pack, Instant, Long-Lasting, Disposable, 5″ x 7″, 16/BX

6530-00-NIB-0213—Cold Pack, Instant, Long-Lasting, Disposable, 5″ x 7″, 24/BX

6530-00-NIB-0214—Cold Pack, Instant, Long-Lasting, Disposable, 5″ x 7″, 48/BX

6530-00-NIB-0215—Cold Pack, Instant, Long-Lasting, Disposable, 6″ x 8″, 16/BX

6530-00-NIB-0216—Cold Pack, Instant, Long-Lasting, Disposable, 6″ x 8″, 24/BX

6530-00-NIB-0217—Cold Pack, Instant, Disposable, 5″ x 6″, 80/BX

6530-00-NIB-0218—Cold Pack, Instant, Disposable, 5″ x 6″, 24/BX

6530-00-NIB-0219—Cold Pack, Instant, Disposable, 5″ x 7″, 48/BX

6530-00-NIB-0220—Cold Pack, Instant, Disposable, 5″ x 7″, 16/BX

6530-00-NIB-0221—Cold Pack, Instant, Disposable, 6″ x 8.75″, 24/BX

6530-00-NIB-0251—Hot Pack, Instant, Disposable, 5″ x 6″, EA

6530-00-NIB-0252—Hot Pack, Instant, Disposable, 5″ x 7″, EA

6530-00-NIB-0253—Hot Pack, Instant, Disposable, 6″ x 8, EA

6530-00-NIB-0254—Cold Pack, Instant, Long-Lasting, Disposable, 5″ x 6″, EA

6530-00-NIB-0255—Cold Pack, Instant, Long-Lasting, Disposable, 5″ x 7″, EA

6530-00-NIB-0256—Cold Pack, Instant, Long-Lasting, Disposable, 6″ x 8″, EA

6530-00-NIB-0257—Cold Pack, Instant, Disposable, 5″ x 6″, EA

6530-00-NIB-0258—Cold Pack, Instant, Disposable, 5″ x 7″, EA

6530-00-NIB-0259—Cold Pack, Instant, Disposable, 6″ x 8.75″, EA

Mandatory Purchase For: Total Government Requirement

Mandatory Source of Supply: Central Association for the Blind and Visually Impaired, Utica, NY

Contracting Activity: Defense Logistics Agency Troop Support

Distribution: B-List

NSN(s)—Product Name(s)

7045-00-NIB-0416—Privacy Shield, 16:9 Aspect Ratio Computer Monitor, 23.0″ Widescreen

7045-00-NIB-0417—Privacy Filter, Framed, Black, 20.0″ Widescreen

Mandatory Purchase For: Total Government Requirement

Mandatory Source of Supply: Wiscraft Inc., Milwaukee WI

Contracting Activity: General Services Administration

Distribution: A-List

NSN(s)—Product Name(s)

6545-00-NIB-0105—Kit, Shelter-In-Place

Mandatory Purchase For: Total Government Requirement

Mandatory Source of Supply: Bosma Enterprises, Indianapolis, IN

Contracting Activity: General Services Administration

Distribution: B-List

NSN(s)—Product Name(s)

8105-00-NIB-1412—Aquapad Sand-less Sandbag

Mandatory Purchase For: 100% of the requirement of the Department of Defense

Mandatory Source of Supply: Envision Industries, Inc. in Wichita, KS

Contracting Activity: Defense Logistics Agency Troop Support, Construction & Equipment

Distribution: C-List

NSN(s)—Product Name(s)

7530-01-352-6616—Note Pad, Self-Stick, Fanfold, Yellow, 3″ x 3″

Mandatory Purchase For: Total Government Requirement

Mandatory Source of Supply: Association for the Blind and Visually Impaired—Goodwill Industries of Greater Rochester, Rochester, NY

Contracting Activity: General Services Administration

Distribution: A-List

NSN(s)—Product Name(s)

4240-01-469-8738—Hearing Protection, Over-The-Head Earmuff, NRR 27dB

Mandatory Purchase For: Total Government Requirement

Mandatory Source of Supply: Access: Supports for Living Inc., Middletown, NY

Contracting Activity: Defense Logistics Agency Troop Support

Distribution: B-List

NSN(s)—Product Name(s)

8920-00-SAM-0169—Super Cereal Plus

Mandatory Purchase For: 20% of the requirement of the U.S. Agency for International Development's World Food Program

Mandatory Source of Supply: Transylvania Vocational Services, Inc., Brevard, NC

Contracting Activity: USDA Farm Service Agency Agricultural Stabilization and Conservation Service

Distribution: C-List

NSN(s)—Product Name(s)

1730-01-516-4899—Wheel Chock, Plastic, 14″

1730-01-516-4900—Wheel Chock, Plastic, 20″

Mandatory Purchase For: 100% of the requirement of the Department of Defense

Mandatory Source of Supply: NewView Oklahoma, Inc., Oklahoma City, OK

Contracting Activity: Defense Logistics Agency Troop Support

Distribution: C-List

NSN(s)—Product Name(s)

6135-01-301-8776—3.6V Lithium AA non-rechargeable battery

Mandatory Purchase For: Total Government Requirement

Mandatory Source of Supply: Eastern Carolina Vocational Center, Inc., Greenville, NC

Contracting Activity: Defense Logistics Agency Land & Maritime

Distribution: A-List

Services

Service Type: Laundry and Linen Service

Service Mandatory For: US Air Force, 2610 Pink Flamingo Avenue, MacDill AFB, FL

Mandatory Source of Supply: Goodwill Industries of South Florida, Inc., Miami, FL

Contracting Activity: Dept of the Air Force, FA4814 6 CONS LGCP, Tampa, FL

Service Type: Base Supply Center

Service Mandatory For: US Air Force, Building 266, Suite 1, Tyndall Air Force Base, FL

Mandatory Source of Supply: Winston-Salem Industries for the Blind, Inc., Winston-Salem, NC

Contracting Activity: Dept of the Air Force, FA4819 325th Contracting SQ, Tyndall AFB, FL

Service Type: Janitorial Service

Service Mandatory For: Department of Energy, Western Area Power Administration, Sioux Falls Field Office, 4400 North Timberline Avenue, Brandon, SD

Mandatory Source of Supply: South Dakota Achieve, Sioux Falls, ID

Contracting Activity: Dept of Energy, Western-Upper Great Plains Region, Billings, MT

Barry S. Lineback,
Director, Business Operations.

[FR Doc. 2015-15121 Filed 6-18-15; 8:45 am]

BILLING CODE 6353-01-P